DEPARTMENT OF STATE

[Public Notice 3218]

Meeting of the Cultural Property Advisory Committee

AGENCY: United States Department of State.

ACTION: Notice of meeting of the Cultural Property Advisory Committee.

The Cultural Property Advisory Committee will meet on Monday, March 13, 2000, from approximately 9 a.m. to 5 p.m., and on Tuesday, March 14, from approximately 9 a.m. to 2 p.m., at the Department of State, Annex 44, Room 840, 301 4th St., SW, Washington, DC. During its meeting the Committee will continue its review and investigation of a foreign government request submitted by the Government of the Republic of Bolivia to the Government of the United States of America filed under Article 9 of the 1970 Convention on the Means of Prohibiting and Preventing the Illicit Import, Export and Transfer of Ownership of Cultural Property. Notification of receipt of this request appeared in the Federal Register on October 8, 1999. A second notice pertaining to this request appeared in the Federal Register on December 10, 1999. These notices may be found at http://e.usia.gov/education/culprop.

Bolivia believes its cultural patrimony to be in jeopardy from pillage. It seeks U.S. import restrictions on Pre-Columbian archaeological material such as artifacts made of stone, metal, ceramic, shell, bone, wood, textiles, featherwork, basketry, and Pre-Columbian human remains; and Colonial period and indigenous ethnological materials such as folklore costumes, textiles, featherwork, stonework, leatherwork, woodwork, metalwork, ceramics, religious imagery, musical instruments, and paintings.

The Committee's review of the request is carried out in accordance with provisions of the Convention on Cultural Property Implementation Act (19 U.S.C. 2601 et seq.). A copy of the Act may be found at the web address posted above.

During its meeting on March 13, the Committee will hold an open session, 1:30-3:30 p.m., to receive public comment on the Bolivia request. The Committee also invites written comment and requests that both oral and written comments address the determinations that must be made about the Bolivia request pursuant to 19 U.S.C. 2602, Convention on Cultural Property Implementation Act. Other portions of the meeting on March 13-14 will be closed pursuant to 5 U.S.C. 552b(c)(9)(B) and 19 U.S.C. 2605(h).

Written comments may be sent to Cultural Property, Department of State, Annex 44, 301 4th Street, SW, Rm. 247, Washington, DC 20547; or faxed to (202) 619-5177. Persons wishing to attend the open portion of the meeting on March 13, must notify the Cultural Property Office, (202) 619-6612, no later than 5 p.m., Thursday, March 9, 2000, to arrange for admission.

Dated: February 3, 2000.
Evelyn S. Lieberman,
Under Secretary of State for Public Diplomacy and Public Affairs, Department of State.

Determination to Close the Meeting of the Cultural Property Advisory Committee, March 13-14, 2000

In accordance with 5 U.S.C. 552b(c)(9)(B), and 19 U.S.C. 2605(h), I hereby determine that portions of the meeting of the Cultural Property Advisory Committee on March 13-14, at which there will be deliberation of information the premature disclosure of which would be likely to significantly frustrate implementation of proposed actions, will be closed.

Dated: February 3, 2000.
Evelyn S. Lieberman,
Under Secretary of State for Public Diplomacy and Public Affairs, Department of State.

[FR Doc. 00-3084 Filed 2-9-00; 8:45 am]

BILLING CODE 4710-11-P